DEPARTMENT OF HOUSING AND URBAN DEVELOPMENT

[Docket No. FR-7011-N-33]

30-Day Notice of Proposed Information Collection: Service Coordinators in Multifamily Housing

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: September 16, 2019.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QDAM, Department of Housing and Urban Development, 451 7th Street SW, Washington, DC 20410; email Colette Pollard at Colette.Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A. The Federal Register notice that solicited public comment on the information collection for a period of 60 days was published on February 27, 2019 at 84 FR 6433.

A. Overview of Information Collection

Title of Information Collection: Service Coordinators in Multifamily Housing.

OMB Approval Number: 2502-0447.

Type of Request: Reinstatement with change, on a previously approved collection.

Form Number: HUD-91186, HUD-91186-A, HUD-50080-SCMF, HUD-2530, HUD-2880, SF-424, SF-424-Supp and SF-LLL.

Description of the need for the information and proposed use:

The collection of information is necessary to ensure efficient and proper use of funds for eligible activities. This information collection will assist HUD in better determining the need and eligibility when reviewing a new request for funding. Further, without this information, HUD staff cannot effectively assess the continued need for renewals. The information will also enable HUD and the grantees to more effectively evaluate their program performance, account for funds and maintain appropriate program records.

Grant funds are taken to pay costs previously incurred and are obtained through use of the electronic Line of Credit Control System (eLOCCS). Grantees are required to draw down from eLOCCS monthly or quarterly. Grantees will submit the revised form HUD-50080-SCMF on a semi-annual basis. Grantees will complete one worksheet per draw down. Each worksheet will list every expense incurred during that month or quarter. Grantees will be required to maintain detailed expense documentation in their files. HUD may request copies of such documentation if additional program review is warranted. The data reported will allow HUD staff to track expenses and drawdown of funds for eligible costs at intervals within the grant term.

Respondents: Multifamily Housing assisted housing owners.

Estimated Number of Respondents: 4,230.

Estimated Number of Responses: 9,420.

Frequency of Response: Quarterly to Annually.

Average Hours per Response: 1.5.

Total Estimated Burdens: 8,560.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: August 2, 2019.
Colette Pollard,
Department Reports Management Officer, Office of the Chief Information Officer.

[FR Doc. 2019-17642 Filed 8-15-19; 8:45 am]

BILLING CODE 4210-67-P